ENVIRONMENTAL PROTECTION AGENCY

[EPA-HQ-OPPT-2009-0112; FRL-9902-68]

Toxic Substances Control Act Chemical Testing; Receipt of Test Data

AGENCY: Environmental Protection Agency (EPA).

ACTION: Notice.

SUMMARY: This notice announces EPA's receipt of test data on 1-propanesulfonic acid, 2-hydroxy-3-(2-propen-1-yloxy)-, sodium salt (1:1). These data were submitted pursuant to a test rule issued by EPA under the Toxic Substances Control Act (TSCA). The purpose of this notice is to alert the public about test data received between August 1, 2013, and October 31, 2013.

FOR FURTHER INFORMATION CONTACT: For technical information contact: Kathy Calvo, Chemical Control Division (7405M), Office of Pollution Prevention and Toxics, Environmental Protection Agency, 1200 Pennsylvania Ave. NW., Washington, DC 20460-0001; telephone number: (202) 564-8089; fax number: (202) 564-4765; email address: calvo.kathy@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. This action may, however, be of interest to those persons who are concerned about data on health and/or environmental effects and other characteristics of this chemical substance. Since other entities may also be interested, the Agency has not attempted to describe all the specific entities that may be affected by this action.

B. How can I get copies of this document and other related information?

The docket for this action, identified by docket identification (ID) number EPA-HQ-OPPT-2009-0112, is available at http://www.regulations.gov or at the Office of Pollution Prevention and Toxics Docket (OPPT Docket), Environmental Protection Agency Docket Center (EPA/DC), EPA West Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. Test Data Submissions

Section 4(d) of TSCA (15 U.S.C. 2603(d)) requires EPA to publish a notice in the Federal Register reporting the receipt of test data submitted pursuant to test rules promulgated under TSCA section 4(a) (15 U.S.C. 2603(a)). Each notice must:

1. Identify the chemical substance or mixture for which data have been received.

2. List the uses or intended uses of such chemical substance or mixture and the information required by the applicable standards for the development of test data.

3. Describe the nature of the test data developed.

EPA has received test data for the following test rule:

EPA received data on 1 chemical substance listed in the TSCA section 4 test rule entitled “Testing for Certain High Production Volume Chemicals; Third Group of Chemicals,” published in the Federal Register of October 21, 2011 (76 FR 65385) (FRL-8885-5) (docket ID number EPA-HQ-OPPT-2009-0112).

The table in this unit contains the described information required by TSCA section 4(d). See the applicable CFR citation, listed in the title of the table, for test data requirements. Data received can be found by referencing the docket ID number and document number listed in the table. See Unit I.B. for additional information about the docket. EPA reviews of test data are added to the docket upon completion.

Table 1—Data Received in Response to TSCA Section 4 Test Rule at 40 CFR 799.5089, Testing of Certain High Production Volume Chemicals; Third Group of Chemicals, Docket Identification Number EPA-HQ-OPPT-2009-0112
Chemical identity | Use(s) | Data received | Document number
1-Propanesulfonic acid, 2-hydroxy-3-(2-propen-1-yloxy)-, sodium salt (1:1) (CAS No. 52556-42-0) | Polymerizable surfactant for vinylic systems; antistatic properties; promotes adhesion of pigments; emulsion polymerization in paper, textile, fiber, and adhesives industries | Biodegradation; Acute Toxicity to Fish; Acute Toxicity to Daphnia; Toxicity to Algae; Acute Inhalation Toxicity in Rats; Bacterial Reverse Mutation; In Vitro Mammalian Chromosome Aberration; Repeated Dose/Reproduction Development Toxicity | 0146

Note: CAS No. = Chemical Abstracts Service Registry Number.

Authority: 15 U.S.C. 2603.

List of Subjects

Environmental protection, Hazardous substances.

Dated: November 12, 2013.
Maria J. Doa,
Director, Chemical Control Division, Office of Pollution Prevention and Toxics.

[FR Doc. 2013-27729 Filed 11-18-13; 8:45 am]

BILLING CODE 6560-50-P